DEPARTMENT OF HEALTH AND HUMAN SERVICES

National Institutes of Health

National Institute on Drug Abuse; Amended Notice of Meeting

Notice is hereby given of a change in the meeting of the National Advisory Council on Drug Abuse, February 2, 2011, 8:30 a.m. to 2:45 p.m., National Institutes of Health, Neuroscience Center, 6001 Executive Boulevard, Rockville, MD, 20852 which was published in the Federal Register on January 14, 2011, 76; 10 FR 2011-727.

The time of the closed session on February 2, 2011 was changed to 8:30 a.m. to 10:15 a.m. and the time of the open session was changed to 10:30 a.m. to 2:45 p.m. The meeting is partially closed to the public.

Dated: January 20, 2011.
Jennifer Spaeth,
Director, Office of Federal Advisory Committee Policy.

[FR Doc. 2011-1673 Filed 1-26-11; 8:45 am]

BILLING CODE 4140-01-P